FEDERAL COMMUNICATIONS COMMISSION

47 CFR Part 73

[DA 01-1239; MM Docket No. 01-37, RM-10065]

Radio Broadcasting Services; Houston and Anchorage, AK

AGENCY: Federal Communications Commission.

ACTION: Final rule.

SUMMARY: The Commission, at the request of Chester P. Coleman substitutes Channel 234C1 for Channel 234C2 at Houston, Alaska, and modifies Station KADX's license to reflect the change. It also modifies the license of Ubik Corporation, licensee of Station KNIK-FM, Anchorage, Alaska, to specify operation on Channel 286C1 in lieu of the present Channel 287C1, after Ubik failed to respond to the Order to Show Cause issued to it to show cause why its license should not be so modified. Channel 234C1 is allotted at Houston, Alaska, consistent with the minimum distance separation requirements of section 73.207(b) and the principal community coverage requirements of section 73.315(a) of the Commission's Rules at coordinates 61-29-03 NL and 149-45-52 WL, with a site restriction of 17.2 kilometers (10.7 miles) south of the community. Channel 286C1 is allotted at Anchorage, Alaska consistent with the minimum distance separation requirements of section 73.207(b) and the principal community coverage requirements of section 73.315(a) of the Commission's Rules, at Station KNIK-FM's licensed site, at coordinates 61-11-33 NL and 149-54-01 WL, 2.8 kilometers (1.8 miles) south of the community.

DATES: Effective July 2, 2001.

FOR FURTHER INFORMATION CONTACT: Victoria M. McCauley, Mass Media Bureau, (202) 418-2180.

SUPPLEMENTARY INFORMATION: This is a summary of the Commission's Notice of Proposed Rule Making, MM Docket No. 01-37, adopted May 9, 2001, and released on May 18, 2001. The full text of this Commission decision is available for inspection and copying during normal business hours in the Commission's Reference Information Center, 445 Twelfth Street, SW., Washington, DC 20554. The complete text of this decision may also be purchased from the Commission's copy contractors, International Transcription Services, Inc., 1231 20th Street, NW., Washington, DC 20036 (202) 857-3800, facsimile (202) 857-3805.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Alaska, is amended by removing Channel 234C2 and adding Channel 234C1 at Houston, and by removing Channel 287C1 and adding Channel 286C1 at Anchorage.

Federal Communications Commission.
John A. Karousos,
Chief, Allocations Branch, Policy and Rules Division, Mass Media Bureau.

[FR Doc. 01-14017 Filed 6-5-01; 8:45 am]

BILLING CODE 6712-01-P